DEPARTMENT OF LABOR

Employment and Training Administration

[TA-W-63,278]

Wheeling Pittsburg Steel Corporation, Allenport, PA; Notice of Affirmative Determination Regarding Application for Reconsideration

By application dated June 26, 2008, United Steelworkers, Local Union 1187 requested administrative reconsideration of the negative determination regarding workers' eligibility to apply for Trade Adjustment Assistance (TAA) and Alternative Trade Adjustment Assistance (ATAA) applicable to workers and former workers of the subject firm. The determination was issued on May 21, 2008. The Notice of determination was published in the Federal Register on June 3, 2008 (73 FR 31716).

The initial investigation resulted in a negative determination based on the finding that imports of cold rolled sheet coil did not contribute importantly to worker separations at the subject firm and no shift of production to a foreign source occurred.

In the request for reconsideration, the petitioner provided a list of additional customers of the subject firm and requested to conduct a survey of these customers.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 11th day of July 2008.
Linda G. Poole,
Certifying Officer, Division of Trade Adjustment Assistance.

[FR Doc. E8-16570 Filed 7-18-08; 8:45 am]

BILLING CODE 4510-FN-P